DEPARTMENT OF AGRICULTURE

Forest Service

Bitterroot Fires 2000: Post-Fire Recovery Environmental Impact Statement

AGENCY: Forest Service, USDA.

ACTION: Notice of intent to prepare an Environmental Impact Statement.

SUMMARY: The Bitterroot National Forest experienced a fire season of historic proportions in 2000. Wildfires burned 307,000 acres on the Bitterroot National Forest and 49,000 acres on private and State lands in Ravalli County, Montana during the summer of 2000. The fires destroyed 70 homes, 2 commercial properties, and 167 outbuildings. Much of the burn occurred in the low elevation warm, dry ponderosa pine/Douglas-fir forest type which occurs along much of the wildland urban interface. Due to high fuel loads prior to the fires, these warm, dry forest types burned at severities well outside their historic range. As a result of the fires, fuel loads are expected to increase dramatically over the next several decades as thousands of fire-killed trees fall over and accumulate on the forest floor. Much of this fuel build-up will occur in the wildland urban interface, setting the stage for future fires that could threaten life, homes, improvements, and property. The Department of Agriculture, Forest Service, will prepare an Environmental Impact Statement (EIS) to reduce fuels, improve watershed and aquatic conditions, revegetate burned landscapes, and improve forest health on the Montana portion of the Bitterroot National Forest. The Record of Decision will disclose how the forest Service plans to treat fuels on an estimated 60,000 burned acres (about 20% of the burned acres on the Montana portion of the forest, excluding wilderness) using a variety of methods, including commercial timber sales, non-commercial thinning, piling, and burning, prescribed fire, and stewardship contracts. The priority areas for fuel reduction work would be the burned portion of the wildland urban interface, in warm dry forest communities, and selected areas where reforestation is proposed. The Record of Decision will also disclose how watershed and aquatic health will be improved by implementing drainage improvement measures on approximately 400 roads in the burned area. Treatments would include reconstructing existing open roads to meet Best Management Practices (BMP) standards, and decompacting, recontouring, and restoring the natural drainage pattern on certain closed roads which are not needed for future public or management access. Fisheries would be improved in the burned drainages by removing man-made barriers that currently fragment native fish populations, and adding woody debris to streams which lacked woody material prior to the fires. Tree seedlings would be planted on approximately 24,000 acres where natural regeneration is not expected to meet desired species composition and tree stocking levels. The Bitterroot National Forest Land and Resource Management Plan (Forest Plan) has a Forest-wide standard that states “All snags that do not present an unacceptable safety risk will be retained”. The Forest Plan is proposed to be amended specifically for this project to allow cutting snags that do not represent an unacceptable safety risk. This project may require additional site-specific amendments to the Bitterroot Forest Plan. A range of alternative responsive to significant issues will be developed, including a no-action alternative.

DATES: Comments concerning the scope of this project should be received by the Sula Ranger District, Bitterroot National Forest by March 15, 2001.

ADDRESSES: Please send written comments to: Sula Ranger District, Bitterroot National Forest; Attn: Post-Fire Recovery EIS; 7338 Highway 93 South; Sula, MT 59871.

FOR FURTHER INFORMATION CONTACT: Craig Bobzien, Darby/Sula District Ranger, telephone: (406) 821-3201, or Stuart Lovejoy, Post-Fire Recovery EIS Team Leader, Sula Ranger District, 7338 Highway 93 South, Sula, MT 59871, telephone (406) 821-3201, email: slovejoy@fs.fed.us.

SUPPLEMENTARY INFORMATION: Public participation will be an integral component of the study process, and will be especially important at several points during the analysis. The first is during the scoping process. The Forest Service will be seeking information, comments and assistance from federal, State, County, and local agencies, individuals and organizations that may be interested in or affected by the proposed activities. The scoping process will include: (1) Identification of potential issues, (2) identification of issues to be analyzed in depth, and (3) elimination of insignificant issues or those which have been covered by a previous environmental review. Written scoping comments will be solicited through a scoping package that will be sent to the project mailing list and local newspapers. For the Forest Service to best use the scoping input, comments should be received by March 15, 2001. Preliminary issues identified for analysis in the EIS include the potential effects and relationship of the project to fire hazard reduction, water quality, fisheries and reparian areas, wildlife habitat, soil productivity, recreation, motorized access, scenery, heritage resources, sensitive plants, and benefits/costs of the proposed activities.

Based on the results of scoping and the resource conditions within the project area, alternatives (including a no-action alternative) will be developed for the draft EIS. The draft EIS is projected to be filed with the Environmental Protection Agency (EPA) in May 2001. The final EIS is anticipated in September 2001.

The comment period on the draft EIS will be 45 days from the date that the EPA publishes the notice of availability in the Federal Register.

At this early stage, the Forest Service believes it is important to give reviewers notice of several court ruling related to public participation in the environmental review process. First, reviewers of draft EIS's must structure their participation in the environmental review of the proposal, so that it is meaningful and alerts an agency to the reviewer's position and contentions. Vermont Yankee Nuclear Power Corp. v. NRDC, 435 U.S. 519, 553 (1978). Also, environmental objections that could have been raised at the draft EIS stage, but that are not raised until the completion of the final EIS, may be waived or dismissed by the court. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period on the draft EIS, so that substantive comments and objections are made available to the Forest Service at a time when they can be meaningfully considered and respond to them in the final EIS.

To assist the Forest Service in identifying and considering issues and concerns of the proposed action, comments on the draft EIS should be as specific as possible. It is also helpful if comments refer to specific pages or chapters of the draft statement. Comments may address the adequacy of the draft EIS, or the merits of the alternatives formulated and discussed in the statement. Reviewers may wish to refer to the Council on Environmental Quality Regulations for implementing the procedural provisions of the National Environmental Policy Act in 40 CFR 1503.3, in addressing these points.

Permits/Authorizations: The proposed action will require one or more site-specific amendments to the Bitterroot Forest Plan. Rodd Richardson, Forest Supervisor, Bitterroot National Forest, is the responsible official for the Plan amendments.

Responsible Official: Rodd Richdardson, Forest Supervisor, Bitterroot National Forest, is the responsible official. In making the decision, the responsible official will consider the comments; responses; disclosure of environmental consequences; and applicable law, regulations, and policies. The responsible official will state the rationale for the chosen alternative in the Record of Decision.

Dated: February 2, 2001.
Rodd Richardson,
Forest Supervisor.

[FR Doc. 01-3592 Filed 2-12-01; 8:45 am]

BILLING CODE 3410-11-M